DEPARTMENT OF LABOR

Employment and Training Administration

[TA-W-63,236; TA-W-63,236A]

Avaya, Inc., Unified Communications Division, Information Solutions Organization, Westminster, CO, Including Employees of Avaya, Inc., Unified Communications Division, Information Solutions Organization Westminster, CO, Working in Milpitas, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 15, 2008, applicable to workers of Avaya, Inc., Unified Communications Division, Information Solutions Organization, Westminster, Colorado. The notice was published in the Federal Register on May 29, 2008 (73 FR 30977).

At the request of the State agency, the Department reviewed the certification for workers of the subject firm. The workers are engaged in the production of master technical manuals, other information products and localized software.

New information shows that worker separations have occurred involving employees working in support of the Westminster, Colorado facility of the subject firm located in Milpitas, California. Ms. Jennifer Allen and Ms. Shirley Tsang provided a variety of services supporting the production of master technical manuals, other information products and localized software at the Westminster, Colorado location of the subject firm. The Department has determined that Ms. Jennifer Allen and Ms. Shirley Tsang were sufficiently under the control of the Westminster, Colorado location to be covered under this certification.

Based on these findings, the Department is amending this certification to include employees in support of the firm's Westminster, Colorado facility located in Milpitas, California.

The intent of the Department's certification is to include all workers of Avaya, Inc., Unified Communications Division, Information Solutions Organization, Westminster, Colorado who were adversely affected by increased imports following a shift in production to India and Czech Republic.

The amended notice applicable to TA-W-63,236 is hereby issued as follows:

All workers of Avaya, Inc., Unified Communications Division, Information Solutions Organization, Westminster, Colorado (TA-W-63,236) including employees in support of Avaya, Inc., Unified Communications Division, Information Solutions Organization, Westminster, Colorado located in Milpitas, California (TA-W-63,236A), who became totally or partially separated from employment on or after April 22, 2007, through May 15, 2010, are eligible to apply for adjustment assistance under Section 223 of the Trade Act of 1974, and are also eligible to apply for alternative trade adjustment assistance under Section 246 of the Trade Act of 1974.

Signed at Washington, DC, this 23rd day of September 2008.
Elliott S. Kushner,
Certifying Officer, Division of Trade Adjustment Assistance.

[FR Doc. E8-23299 Filed 10-2-08; 8:45 am]

BILLING CODE 4510-FN-P